INTERNATIONAL TRADE COMMISSION

[Investigation No. 731-TA-1104 (Third Review)]

Certain Polyester Staple Fiber From China

Determination

On the basis of the record ¹ developed in the subject five-year review, the United States International Trade Commission (“Commission”) determines, pursuant to the Tariff Act of 1930 (“the Act”), that revocation of the antidumping duty order on certain polyester staple fiber from China would be likely to lead to continuation or recurrence of material injury to an industry in the United States within a reasonably foreseeable time.

¹ The record is defined in § 207.2(f) of the Commission's Rules of Practice and Procedure (19 CFR 207.2(f)).

Background

The Commission instituted this review on March 1, 2023 (88 FR 12987) and determined on June 5, 2023 that it would conduct an expedited review (88 FR 44399, July 12, 2023).

The Commission made this determination pursuant to section 751(c) of the Act (19 U.S.C. 1675(c)). It completed and filed its determination in this review on August 24, 2023. The views of the Commission are contained in USITC Publication 5456 (August 2023), entitled Certain Polyester Staple Fiber from China: Investigation No. 731-TA-1104 (Third Review).

By order of the Commission.
Issued: August 24, 2023.
Lisa Barton,
Secretary to the Commission.

[FR Doc. 2023-18589 Filed 8-28-23; 8:45 am]

BILLING CODE 7020-02-P